DEPARTMENT OF AGRICULTURE

Food and Nutrition Service

Agency Information Collection Activities: Supplemental Nutrition Assistance Program (SNAP) Forms: Applications, Periodic Reporting, and Notices

AGENCY: Food and Nutrition Service (FNS), USDA.

ACTION: Notice.

SUMMARY: In accordance with the Paperwork Reduction Act of 1995, this notice invites the general public and other public agencies to comment on this proposed information collection. This collection is a revision of the currently approved collection for the applications, periodic reporting, and notices burden calculations for the Supplemental Nutrition Assistance Program (SNAP).

DATES: Written comments must be received on or before November 13, 2023.

ADDRESSES: Comments may be sent to: Certification Policy Branch, Program Development Division Food and Nutrition Service, U.S. Department of Agriculture, 1320 Braddock Place, 5th Floor, Alexandria, VA 22314. Comments may also be submitted via fax to the attention of the Certification Policy Branch at 703-305-2022 or via email to SNAPCPBRules@usda.gov. Comments will also be accepted through the Federal eRulemaking Portal. Go to https://www.regulations.gov and follow the online instructions for submitting comments electronically.

All responses to this notice will be summarized and included in the request for Office of Management and Budget (OMB) approval. All comments will be a matter of public record.

FOR FURTHER INFORMATION CONTACT: Requests for additional information or copies of this information collection should be directed to Muhammad Kara by telephone at 703-305-2022.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program Forms: Applications, Periodic Reporting, and Notices.

Form Number: N/A.

OMB Control Number: 0584-0064.

Expiration Date: 2/29/2024.

Type of Request: Revision of a currently approved collection.

Abstract: The information collection addresses the burden estimates associated with applications, which are designed at the State level; client reporting; and notices sent to SNAP participants or applicants (Individuals/Households). Following Federal requirements, State agencies are responsible for determining the eligibility of SNAP households and issuing benefits to those households entitled to benefits under the Food and Nutrition Act of 2008 (the Act), as amended. State agencies obtain demographics such as: names, social security numbers, and date of births of all household members; addresses; and individual or household income information from households through the initial application and recertification processes as well as through various reports to determine program eligibility and benefit levels. SNAP notices sent to individuals or households addresses are the primary method State agencies communicate with SNAP applicants and current participants. This information must be collected from households to ensure that they are eligible for the program and that they receive the correct amount of SNAP benefits.

Additionally, State agencies are limited in the use or disclosure of information obtained from SNAP application forms or contained in case files of participating SNAP households to certain persons, specifically those directly connected with: the administration of SNAP; the administration of other Federal or Federally assisted means-tested programs; the verification of immigration status of aliens; the Office of the Comptroller General of the U.S. for audit and examination authorized by any other provisions of law; local, State, or Federal law enforcement for the purpose of investigating an alleged violation of the Act or SNAP regulations; local, State, or Federal law enforcement for the purpose of investigating if a household member is a fleeing felon or a parole violator; and agencies of the Federal Government for the purposes of collecting the amount of an over issuance from Federal pay.

The Federal procedures for implementing the application and certification procedures, as well as third-party disclosure requests, in the Act are in Parts 271, 272, and 273 of the Title 7 of the Code of Federal Regulations (CFR). Part 271 contains general information and definitions, Part 272 contains requirements for participating State agencies, and Part 273 contains procedures for the certification of eligible households.

In the process of renewing this information collection, FNS modified the burden of some of its reporting and recordkeeping requirements to reflect current SNAP caseload levels and more recent or accurate data sources, where possible. These adjustments represent an increase of 14,957,613.94 total annual burden hours. In addition, FNS added burden hours to reflect program changes related to two final rules, described in more detail below. The burden associated with these rules represents an increase of 827,239.41 total annual burden hours. Together, these updates represent an increase of 85,968,762.93 total annual responses and 15,784,853.36 total annual burden hours for 53 State agencies, 2,724 Local agencies, and 18,802,000 Individuals/Households compared to the last to the burden in the currently approved information collection.

On January 5, 2021, FNS published the final rule, “Employment and Training Opportunities in the Supplemental Nutrition Assistance Program” (84 FR 358). This rule requires State agencies to consult with their State workforce development boards on the design of their employment and training (E&T) programs and to document in their E&T State plans the extent to which their E&T programs will be carried out in coordination with activities under title I of the Workforce Innovation and Opportunity Act (WIOA). The final rule also made changes to E&T components including: replacing job search with supervised job search as a component; eliminating job finding clubs; replacing job skills assessments with employability assessments; adding apprenticeships and subsidized employment as allowable activities; requiring a 30-day minimum for provision of job retention services; and allowing those activities from the E&T pilots authorized under the Agricultural Act of 2014 (Pub. L. 113-79) that have had the most demonstrable impact on the ability of participants to find and retain employment that leads to increased income and reduced reliance on public assistance to become allowable E&T activities. As noted in the final rule, FNS is merging some of the burden associated with this rule with this collection by adding new reporting burden line items. The burden associated with this program change is listed below:

1. Review and modify list of available E&T Services (7 CFR 273.14(b)(5)): Under this requirement, 53 State agencies will each review and modify one list of available E&T opportunities annually. Thus, the information collection activities associated with this requirement results in 53 responses for State agencies. FNS estimates that it will take State agencies approximately 24 hours per response, resulting in 1,272 burden hours. This program change to the burden reflects an increase of 53 total annual responses and 1,272 total annual burden hours for State agencies.

2. Provide list of available Employment and Training (E&T) services (7 CFR 273.14(b)(5)): Under this requirement, 53 State agencies will each send, on average, 103,698.11 lists advising SNAP households not otherwise exempt from the general work requirements in writing of available employment and training (E&T) opportunities at the time of recertification if these individuals are members of households that contain at least one adult, with no elderly or disabled individuals, and with no earned income at their last certification or required report. Thus, the information collection activities associated with this requirement result in 5,496,000 responses for State agencies. FNS estimates that it takes States approximately one minute (0.0200 hours) per response, resulting in 109,920 burden hours. This program change to the burden reflects an increase of 5,496,000 total annual responses and 109,920 total annual burden hours for State agencies. FNS also estimates that 5,496,000 individuals will each receive and read one list of available E&T services. Thus, the information collection activities associated with this requirement results in 5,496,000 responses for individuals. FNS estimates that it takes individuals approximately one minute (0.0200 hours) per response, resulting in 109,920 burden hours. This adjustment to the burden reflects an increase of 5,496,000 total annual responses and 109,920 total annual burden hours for households. FNS notes that while the household burden associated with this requirement is outlined in the final rule published January 5, 2021, FNS has not previously delineated the State agency burden associated with this requirement. In this information collection renewal, FNS chose to delineate the State agency burden associated with this requirement to reflect the process of State agencies sending the list of available E&T services and associated burden more accurately.

3. Inform Able-Bodied Adults without Dependents (ABAWD) of the ABAWD work requirement (7 CFR 273.7(c)(1)(ii) & (iii) & 273.24(b)(8)): Under this requirement, 53 State agencies will each send, on average, 50,943.40 notices informing able-bodied adults without dependents (ABAWD) about the ABAWD work requirement and time limit. Thus, the information collection activities associated with this requirement result in 2,700,000 responses for State agencies. FNS estimates that it will take each State agency approximately 5 minutes (0.0830 hours) per response, resulting in 224,100 burden hours. This program change to the burden reflects an increase of 2,700,000 total annual responses and 224,100 total annual burden hours for State agencies. FNS also estimates that 2,700,000 individuals subject to the ABAWD work requirement and time limit will each read one notice. Thus, the information collection activities associated with this requirement results in 2,700,000 responses for households. FNS estimates that it takes households approximately 5 minutes (0.0830 hours) per response, resulting in 224,100 burden hours. This program change to the burden reflects an increase of 2,700,000 total annual responses and 224,100 total annual burden hours for households.

4. Inform Employment and Training (E&T) Participants of Provider Determination (7 CFR 273.7(c)(18)(i)): Under this requirement, 53 State agencies will each send, on average, 867.92 notifications to E&T participants who receive a provider determination by an E&T provider. Thus, the information collection activities associated with this requirement result in 46,000 responses for State agencies. FNS estimates it will take State agencies approximately 5 minutes (0.0830 hours) per response, resulting in 3,818 burden hours. This program change to the burden reflects an increase of 46,000 total responses and 3,818 burden hours for State agencies. FNS also estimates that 46,000 E&T participants will each read one provider determination. Thus, the information collection activities associated with this requirement result in 46,000 responses for households. FNS estimates that it takes households approximately 5 minutes (0.0830 hours) per response, resulting in 3,818 burden hours. This adjustment to the burden reflects an increase of 46,000 total annual responses and 3,818 total annual burden hours for households.

On October 3, 2022, FNS published the interim final rule, “Supplemental Nutrition Assistance Program: Requirement for Interstate Data Matching to Prevent Duplicate Issuances” (87 FR 59633). This rule requires State agencies to provide information to the National Agency Clearinghouse (NAC) regarding individuals receiving SNAP benefits in their States to ensure they are not already receiving benefits in another State. It also requires State agencies to take appropriate action with respect to each indication from the NAC that an individual may already be receiving SNAP benefits from another State agency. FNS is merging most of the burden associated with this rule with this collection by updating existing verification and noticing burden estimates for both State agencies and individuals/households. The estimates below are solely related to the program changes related to the rule, but FNS notes that it also made adjustments to the following line items related to SNAP caseload levels and participation. These adjustments are delineated further in the burden table, but for purposes of this notice, FNS is focusing on the program changes specifically. The burden associated with this program change is listed below:

1. Verification: Questionable Information (7 CFR 273.2(f)(1)&(2)): Under this requirement, 53 State agencies will each send, on average, 4,611.57 notifications to households who have questionable and/or unclear information following a positive NAC match. Thus, the information collection activities associated with this requirement result in 244,413.10 responses for State agencies. FNS estimates that it takes States approximately 6 minutes (0.1002 hours) per response, resulting in 24,490.19 burden hours. This program change to the burden reflects an increase of 244,413.10 total annual responses and 24,490.19 total annual burden hours for States agencies. FNS also estimates that 244,413.10 households will each read one notification. Thus, the information collection activities associated with this requirement result in 244,413.10 responses for households. FNS estimates that it takes households approximately 4 minute (0.0668 hours) per response, resulting in 16,326.79 burden hours. This program change to the burden reflects an increase of 244,413.10 total annual responses and 16,326.79 total annual burden hours for households.

2. Notice of Adverse Action (7 CFR 273.13(a)): Under this requirement, 53 State agencies will be required to issue a combined notice for a match on an individual during the certification period prior to a change in SNAP benefit allotment to a participant as a result of a match found through the NAC. Thus, the information collection activities associated with this requirement results in 409,709.52 responses for State agencies. FNS estimates that it takes States approximately 3 minutes (0.0501 hours) per response, resulting in 20,526.45 annual burden hours. This program change to the burden reflects an increase of 409,709.52 total annual responses and 20,526.45 total annual burden hours for States agencies. FNS also estimates that 409,709.52 households will each receive a combined notice of match results and notice of adverse action as a result of a positive NAC match received during the certification period. Thus, the information collection activities associated with this requirement result in 409,709.52 responses for households. FNS estimates that it takes households approximately 5 minutes (0.0835 hours) per response, resulting in 34,210.75 burden hours. This program change to the burden reflects an increase of 409,709.52 total annual responses and 34,210.75 total annual burden hours for households.

3. Notice of Match Results (7 CFR 237.12(c)(3)(iii)): Under this requirement, 53 State agencies will be required to issue a notice of match results, as necessary, to a household following a positive NAC match on an applicant, recertifying individual, or a newly added household member. Thus, the information collection activities associated with this requirement results in 409,709.52 responses for State agencies. FNS estimates that it takes States approximately 3 minutes (0.0501 hours) per response, resulting in 20,526.45 annual burden hours. This program change reflects an increase of 409,709.52 total annual responses and 20,526.45 total annual burden hours for States agencies. FNS also estimates that 409,709.52 households will each receive a notice of match results. Thus, the information collection activities associated with this requirement results in 409,709.52 responses for households. FNS estimates that it takes households approximately 5 minutes (0.0835 hours) per response, resulting in 34,210.75 burden hours. This program change to the burden reflects an increase of 409,709.52 total annual responses and 34,210.75 total annual burden hours for households.

Inclusive of all burden adjustments and program changes made as part of this renewal, FNS is requesting an overall burden of 1,023,763,956 total annual responses and 139,973,104 total annual burden hours. These burden estimates include 866,533,635 total annual responses and 135,372,295 total annual burden hours for reporting by State agencies and Individuals/Households. The estimates also include 157,228,413 total annual responses and 4,599,855 total annual burden hours for recordkeeping by Local agencies. Finally, the estimates include 1,908 total annual responses and 954 total annual burden hours for third- party disclosures by State agencies.

The currently approved burden for this information collection is 937,795,193 total annual responses and 124,188,251 total annual burden hours. Thus, when compared to the burden in the currently approved information collection, the adjustments and program changes in this renewal represent an increase of 15,784,853.36, rounded to 15,784,853, total annual responses and 1,023,763,955.93, rounded to 1,023,763,956, total annual burden hours.

A breakdown of the burden estimates per type of affected public is provided below.

Reporting Burden for State Agencies

Estimated Total Number of Respondents: 53.

Estimated Frequency of Responses per Respondents: 8,285,674.69.

Estimated Time per Response: 0.13.

Estimated Total Annual Reporting Burden: 58,835,613.04.

Reporting Burden for Individual/Households

Estimated Total Number of Respondents: 18,802,000.

Estimated Frequency of Responses per Respondents: 22.73.

Estimated Time per Response: 0.18.

Estimated Total Annual Reporting Burden: 76,536,682.18.

Recordkeeping Burden for Local Agencies

Estimated Total Number of Recordkeepers: 2,724.

Estimated Frequency of Responses per Recordkeeper: 57,719.68.

Estimated Total Annual Responses: 157,228,413.

Estimated Time per Record: 0.03.

Estimated Total Annual Recordkeeping Burden: 4,599,854.90.

Third Party Disclosure for State Agencies

Estimated Total Number of Respondents: 53.

Estimated Frequency of Responses per Respondents: 36.00.

Estimated Time per Response: 0.50.

Estimated Total Annual Reporting Burden: 954.00.

Total Burden Estimate

Estimated Overall Total Number of Respondents: 18,804,777.

Estimated Overall Frequency of Responses per Respondents: 54.44.

Estimated Overall Total Annual Responses: 1,023,763,955.93.

Estimated Overall Time per Response: 0.14.

Estimated Overall Grand Total Annual Reporting and Recordkeeping Burden: 139,973,104.13.

FNS SNAP Forms ICR Total Burden Estimate
[OMB Control No. 0584-0064]
Affected public | Estimated number of respondent | Estimated responses annually per respondent | Estimated total annual responses | Estimated average number of hours per response | Estimated total hours
Reporting Burden:
State/Local/Tribal Governments | 53 | 8,285,674.69 | 439,140,758.62 | 0.13 | 58,835,613.04
Households | 18,802,000 | 22.73 | 427,392,876.32 | 0.18 | 76,536,682.18
Total Estimated Reporting Burden | 18,802,053 | 46.09 | 866,533,634.93 | 0.16 | 135,372,295.23
Recordkeeping Burden:
State/Local/Tribal Governments | 2,724 | 57,719.68 | 157,228,413 | 0.03 | 4,599,854.90
Total Estimated Recordkeeping Burden | 2,724 | 57,719.68 | 157,228,413 | 0.03 | 4,599,854.90
Third-Party Disclosures:
State/Local/Tribal Governments | 53 | 36.00 | 1,908.00 | 0.50 | 954.00
Total Estimated Third-Party Disclosures Burden | 53 | 36.00 | 1,908.00 | 0.50 | 954.00
Total Burden for 0584-0064 | 18,804,777 | 54.44 | 1,023,763,955.93 | 0.14 | 139,973,104.13

Tameka Owens,
Assistant Administrator, Food and Nutrition Service.

[FR Doc. 2023-19633 Filed 9-11-23; 8:45 am]

BILLING CODE 3410-30-P